ENVIRONMENTAL PROTECTION AGENCY

[FRL-7235-5]

Agency Information Collection Activities: Request for Comments on Twenty-Two Proposed Information Collection Requests (ICRs)

AGENCY: Environmental Protection Agency (EPA).

ACTION: Notice.

SUMMARY: In compliance with the Paperwork Reduction Act (44 U.S.C. 3501 et seq.), this document announces that EPA is planning to submit the twenty-two continuing Information Collection Requests (ICRs) listed in Section A of this notice to the Office of Management and Budget (OMB). Before submitting the ICRs to OMB for review and approval, EPA is soliciting comments on specific aspects of the information collections as described at the beginning of the SUPPLEMENTARY INFORMATION provided in this notice.

DATES: Comments must be submitted on or before August 19, 2002.

ADDRESSES: Compliance Assessment and Media Programs Division, Office of Compliance, Office of Enforcement and Compliance Assurance, Mail Code 2223A, United States Environmental Protection Agency, 1200 Pennsylvania Avenue, NW., Washington, DC 20460. A hard copy of a specific ICR may be obtained without charge by calling the identified information contact person listed in Section B under SUPPLEMENTARY INFORMATION.

FOR FURTHER INFORMATION CONTACT: For specific information on an individual ICR, contact the person listed in Section B under SUPPLEMENTARY INFORMATION.

SUPPLEMENTARY INFORMATION:

For All ICRs

An Agency may not conduct or sponsor, and a person is not required to respond to, a collection information unless it displays a currently valid OMB control number. The OMB control numbers for EPA's regulations are displayed in 40 CFR part 9.

The EPA would like to solicit comments to:

(i) Evaluate whether the proposed collection of information is necessary for the proper performance of the functions of the Agency, including whether the information will have practical utility;

(ii) Evaluate the accuracy of the Agency's estimate of the burden of the proposed collection of information;

(iii) Enhance the quality, utility, and clarity of the information to be collected; and

(iv) Minimize the burden of the collection of information on those who respond through the use of automated, electronic, mechanical, or other forms of information technology.

Burden means the total time, effort, or financial resources expended by persons to generate, maintain, retain, or disclose or provide information to or for a Federal Agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

In the absence of such information collection requirements, enforcement personnel would be unable to determine whether the standards are being met on a continuous basis, as required by the Clean Air Act. Consequently, these information collection requirements are mandatory, and the records required by New Source Performance Standards (NSPS) and Federal Plan Requirements (FPR) must be retained by the owner or operator for at least two years; records required by the National Emission Standards for Hazardous Air Pollutants (NESHAP) must be retained by the owner or operator for at least five years; and the records required by the NESHAP Maximum Achievable Control Technology standards (NESHAP-MACT) must be retained by the owner or operator for at least five years. In general, the required information consists of emissions data and other information deemed not to be private. However, any information submitted to the Agency for which a claim of confidentiality is made will be safeguarded according to the Agency policies set forth in Title 40, Chapter 1, part 2, subpart B—Confidentiality of Business Information (See 40 CFR part 2; 41 FR 36902, September 1, 1976; amended by 43 FR 39999, September 8, 1978; 43 FR 42251, September 28, 1978; 44 FR 17674, March 2, 1979).

The Agency computed the burden for each of the recordkeeping and reporting requirements applicable to the industry for the currently approved ICRs. Where applicable, the Agency identified specific tasks and made assumptions, while being consistent with the concept of the Paper Work Reduction Act.

Section A: List of ICRs To Be Submitted for OMB Review and Approval

In compliance with the Paperwork Reduction Act (44 U.S.C. 3501 et seq.), this notice announces that EPA is planning to submit the following twenty-two continuing ICRs to the Office of Management and Budget (OMB).

(1) NSPS subpart HH: NSPS for Lime Manufacturing (40 CFR part 60, subpart HH); EPA ICR Number 1167.07; OMB Control Number 2060-0063; expiration date January 31, 2003.

(2) NSPS subpart I: NSPS for Hot Mix Asphalt Facilities (40 CFR part 60, subpart I); EPA ICR Number 1127.07; OMB Control Number 2060-0083; expiration date January 31, 2003.

(3) NSPS subpart Ce: Emission Guidelines for Hospital/Medical/Infectious Waste Incinerators (40 CFR part 60, subpart Ce); EPA ICR Number 1899.02; OMB Control Number 2060-0422; expiration date January 31, 2003.

(4) NSPS subpart DD: New Source Performance Standards for Grain Elevators (40 CFR part 60, subpart DD); EPA ICR Number 1130.07; OMB Control Number 2060-0082, expiration date January 31, 2003.

(5) NSPS subpart EE: NSPS for Metal Furniture Coating (40 CFR part 60, subpart EE); EPA ICR Number 0649.08; OMB Control Number 2060-0106; expiration date January 31, 2003.

(6) NSPS subpart RR: NSPS for Pressure Sensitive Tape and Label Surface Coating (40 CFR part 60, subpart RR); EPA ICR Number 0658.08; OMB Control Number 2060-0004; expiration date January 31, 2003.

(7) NSPS subpart SS: NSPS for Surface Coating of Large Appliances (40 CFR part 60, subpart SS); EPA ICR Number 0659.09; OMB Control Number 2060-0108; expiration date January 31, 2003.

(8) NSPS subpart TT: NSPS for Metal Coil Surface Coating (40 CFR part 60, subpart TT); EPA ICR Number 0660.08; OMB Control Number 2060-0107; expiration date January 31, 2003.

(9) NSPS subpart WW: NSPS for Beverage Can Surface Coating (40 CFR part 60, subpart WW); EPA ICR Number 0663.08; OMB Control Number 2060-0001; expiration date January 31, 2003.

(10) NESHAP subpart FF: NESHAP for Benzene Emissions for Benzene Waste Operations (40 CFR Part 61, subpart FF); EPA ICR Number 1541.07; OMB Number 2060-0183; expiration date February 28, 2003.

(11) NSPS subpart AAAA: Reporting and Recordkeeping Requirements for the New Source Performance Standards for Small Municipal Waste Combustors (40 CFR part 60, subpart AAAA); EPA ICR Number 1900.02; OMB Control Number 2060-0423; expiration date February 28, 2003.

(12) NSPS subpart BBBB: Emission Guidelines—Reporting and Recordkeeping Requirements for Existing Small Municipal Waste Combustion (MWC) Units (40 CFR part 60, subpart BBBB); EPA ICR Number 1901.02; OMB Control Number 2060-0424; expiration date February 28, 2003.

(13) NSPS subpart D: Standards of Performance for Fossil Fuel Fired Steam Generating Units (40 CFR part 60, subpart D); EPA ICR Number 1052.07; OMB Number 2060-0026; expiration date February 28, 2003.

(14) NSPS subpart Da: Standards of Performance for Electric Utility Steam Generating Units (40 CFR part 60, subpart Da); EPA ICR Number 1053.07; OMB Number 2060-0023; expiration date February 28, 2003.

(15) NSPS subpart Db: Industrial/Commercial/Institutional Steam Generating Units (40 CFR part 60, subpart Db); EPA ICR Number 1088.10; OMB Number 2060-0072; expiration date February 28, 2003.

(16) NESHAP subpart M: National Emission Standards for Hazardous Air Pollutants for Asbestos (40 CFR part 61, subpart M); EPA ICR Number 0111.10; OMB Control Number 2060-0101; expiration date February 28, 2003.

(17) NESHAP-MACT subpart VVV: NESHAP for Publicly Owned Treatment Works (POTWs) (40 CFR part 63, subpart VVV); EPA ICR Number 1891.03; OMB Number 2060-0428; expiration date February 28, 2003.

(18) NSPS subpart BB: New Source Performance Standards for Kraft Pulp Mills (40 CFR part 60, subpart BB); EPA ICR Number 1055.07; OMB Control Number 2060-0021; expiration date February 28, 2003.

(19) NSPS subpart HHH: New Source Performance Standards for Synthetic Fiber Production Facilities (40 CFR part 60, subpart HHH); EPA ICR Number 1156.09; OMB Control Number 2060-0059; expiration date January 31, 2003.

(20) NESHAP-MACT subpart AAAA: Federal Emission Guidelines for Existing Municipal Solid Waste Landfills (40 CFR part 63, subpart AAAA); EPA ICR Number 1893.03; OMB Control Number 2060-0430; expiration date February 28, 2003.

(21) NSPS subpart JJJ: New Source Performance Standard for Petroleum Dry Cleaners (40 CFR part 60, subpart JJJ); EPA ICR Number 0997.07, and OMB Control Number 2060-0079, expiration date March 31, 2003.

(22) FPR subpart FFF: Federal Plan Recordkeeping and Reporting Requirements for Large Municipal Waste Combustors Constructed on or Before September 20, 1994 (40 CFR part 62, subpart FFF); EPA ICR Number 1847.03; OMB Control Number 2060-0390; expiration date March 31, 2003.

Section B: Contact Person for Individual ICRs

(1) NSPS subpart HH: NSPS for Lime Manufacturing (40 CFR part 60, subpart HH); Gregory Fried of the Office of Compliance at (202) 564-7016 or via E-mail at fried.gregory@epa.gov; EPA ICR Number 1167.07; OMB Control Number 2060-0063; expiration date January 31, 2003.

(2) NSPS subpart I: NSPS for Hot Mix Asphalt Facilities (40 CFR part 60, subpart I); Gregory Fried of the Office of Compliance at (202) 564-7016 or via E-mail at fried.gregory@epa.gov; EPA ICR Number 1127.07; OMB Control Number 2060-0083; expiration date January 31, 2003.

(3) NSPS subpart Ce: Emission Guidelines for Hospital/Medical/Infectious Waste Incinerators (40 CFR part 60, subpart Ce); Jonathan S. Binder of the Office of Compliance at (202) 564-2516 or via E-mail at binder.jonathan@epa.gov; EPA ICR Number 1899.02; OMB Control Number 2060-0422; expiration date January 31, 2003.

(4) NSPS subpart DD: New Source Performance Standards for Grain Elevators (40 CFR part 60, subpart DD); Ken Harmon of the Office of Compliance at (202) 564-7049 or via E-Mail at harmon.kenneth@epa.gov; EPA ICR Number 1130.07; and OMB Control Number 2060-0082; expiration date January 31, 2003.

(5) NSPS subpart EE: NSPS for Metal Furniture Coating (40 CFR part 60, subpart EE); Steven Hoover of the Office of Compliance at (202) 564-7007 or via E-mail at hoover.steven@epa.gov; EPA ICR Number 0649.08; OMB Control Number 2060-0106; expiration date January 31, 2003.

(6) NSPS subpart RR: NSPS for Pressure Sensitive Tape and Label Surface Coating (40 CFR part 60, subpart RR); Steven Hoover of the Office of Compliance at (202) 564-7007 or via E-mail at hoover.steven@epa.gov; EPA ICR Number 0658.08; OMB Control Number 2060-0004; expiration date January 31, 2003.

(7) NSPS subpart SS: NSPS for Surface Coating of Large Appliances (40 CFR part 60, subpart SS); Steven Hoover of the Office of Compliance at (202) 564-7007 or via E-mail at hoover.steven@epa.gov; EPA ICR Number 0659.09; OMB Control Number 2060-0108; expiration date January 31, 2003.

(8) NSPS subpart TT: NSPS for Metal Coil Surface Coating (40 CFR part 60, subpart TT); Steven Hoover of the Office of Compliance at (202) 564-7007 or via E-mail at hoover.steven@epa.gov; EPA ICR Number 0660.08; OMB Control Number 2060-0107; expiration date January 31, 2003.

(9) NSPS subpart WW: NSPS for Beverage Can Surface Coating (40 CFR part 60, subpart WW); Steven Hoover of the Office of Compliance at (202) 564-7007 or via E-mail at hoover.steven@epa.gov; EPA ICR Number 0663.08; OMB Control Number 2060-0001; expiration date January 31, 2003.

(10) NESHAP subpart FF: NESHAP for Benzene Emissions for Benzene Waste Operations (40 CFR part 61, subpart FF); Rafael Sanchez of the Office of Compliance at (202) 564-7028 or via E-mail to sanchez.rafael@epa.gov; EPA ICR Number 1541.07; OMB Number 2060-0183; expiration date February 28, 2003.

(11) NSPS subpart AAAA: Reporting and Recordkeeping Requirements for the New Source Performance Standards for Small Municipal Waste Combustors (40 CFR part 60, subpart AAAA); Joyce Chandler of the Office of Compliance at (202) 564-7073 or via E-mail at chandler.joyce@epa.gov; EPA ICR Number 1900.02; OMB Control Number 2060-0423; expiration date February 28, 2003.

(12) NSPS subpart BBBB: Emission Guidelines—Reporting and Recordkeeping Requirements for Existing Small Municipal Waste Combustion (MWC) Units (40 CFR part 60, subpart BBBB); Joyce Chandler of the Office of Compliance at (202) 564-7073 or via E-Mail at chandler.joyce@epa.gov; EPA ICR Number 1901.02; OMB Control Number 2060-0424; expiration date February 28, 2003.

(13) NSPS subpart D: Standards of Performance for Fossil Fuel Fired Steam Generating Units (40 CFR part 60, subpart D); Dan Chadwick, (202) 564-7054, (202) 564-0050, chawick.dan@epa.gov; EPA ICR Number 1052.07; OMB Number 2060-0026; expiration date is February 28, 2003.

(14) NSPS subpart Da: NSPS subpart Da—Standards of Performance for Electric Utility Steam Generating Units; Dan Chadwick of the Office of Compliance at (202) 564-7054 or via E-mail at chadwick.dan@epa.gov; EPA ICR Number 1053.07; OMB Number 2060-0023; expiration date February 28, 2003.

(15) NSPS subpart Db: Industrial/Commercial/Institutional Steam Generating Units (40 CFR part 60, subpart Db); Dan Chadwick of the Office of Compliance at (202) 564-7054 or via E-mail at chadwick.dan@epa.gov; EPA ICR Number 1088.10; OMB Number 2060-0072; expiration date is February 28, 2003.

(16) NESHAP subpart M: National Emission Standards for Hazardous Air Pollutants for Asbestos (40 CFR part 61, subpart M); Everett Bishop of the Office of Compliance at (202) 564-7032 or via E-mail at bishop.everett@epa.gov, EPA ICR Number 0111.10, OMB Control Number 2060-0101; expiration date February 28, 2003.

(17) NESHAP-MACT subpart VVV: NESHAP for Publicly Owned Treatment Works (POTWs) (40 CFR part 63, subpart VVV); Walter Brodtman of the Office of Compliance at (202) 564-4181 or via E-mail at brodtman.walter@epa.gov; EPA ICR Number 1891.03; OMB Number 2060-0428; expiration date February 28, 2003.

(18) NSPS subpart BB: New Source Performance Standards for Kraft Pulp Mills (40 CFR part 60, subpart BB); Maria Malave of the Office of Compliance at (202) 564-7027 or via E-mail to malave.maria@epa.gov; EPA ICR Number 1055.07; OMB Control Number 2060-0021; expiration date February 28, 2003.

(19) NSPS subpart HHH: New Source Performance Standards for Synthetic Fiber Production Facilities (40 CFR part 60, subpart HHH); Maria Malave of the Office of Compliance at (202) 564-7027 or via E-mail to malave.maria@epa.gov; EPA ICR Number 1156.09; OMB Control Number 2060-0059; expiration date January 31, 2003.

(20) NESHAP-MACT subpart AAAA: Federal Emission Guidelines for Existing Municipal Solid Waste Landfills (40 CFR part 63, subpart AAAA); Kelli A. Smith of the Office of Compliance at (202) 564-2257 or via E-mail at Smith.Kelli@epa.gov; EPA ICR Number 1893.03; OMB Control Number 2060-0430; expiration date February 28, 2003.

(21) NSPS subpart JJJ: New Source Performance Standard for Petroleum Dry Cleaners (40 CFR part 60, subpart JJJ); Joyce Chandler of the Office of Compliance at (202) 564-7073 or via E-mail at chandler.joyce@epa.gov; EPA ICR Number 0997.07, and OMB Control Number 2060-0079, expiration date March 31, 2003.

(22) FPR subpart FFF: Federal Plan Recordkeeping and Reporting Requirements for Large Municipal Waste Combustors Constructed on or Before September 20, 1994 (40 CFR part 62, subpart FFF); Carolyn Young of the Office of Compliance at (202) 564-7062 or via E-mail at young.carolyn@epa.gov; ICR Number 1847.03; OMB Control Number 2060-0390; expiration date March 31, 2003.

Section C: Summaries of Individual ICRs

(1) NSPS subpart HH: NSPS for Lime Manufacturing (40 CFR part 60, subpart HH); EPA ICR Number 1167.07; OMB Control Number 2060-0063; expiration date January 31, 2003.

Affected Entities: Entities potentially affected by this action are rotary lime kilns located at lime manufacturing plants subject to the standards at 40 CFR part 60, subpart HH for which construction, modification, or reconstruction commenced after May 3, 1977.

Abstract: The Administrator has determined that particulate matter from lime manufacturing cause, or contribute significantly to air pollution that may reasonably be anticipated to endanger public health or welfare. Owners and operators of the affected facilities described must make the following one-time-only reports: Notification of the date of construction or reconstruction; notification of the anticipated and actual startup dates; notification of any physical or operational changes to an existing facility which may increase the regulated pollutant emission rate; notification of the demonstration of the continuous monitoring system (CMS); notification of the date of the initial performance test; and the results of the initial performance test.

Owners and operators are also required to maintain records of the occurrence and duration of any startup, shutdown, or malfunction in the operation of an affected facility, or any period during which the monitoring system is inoperative.

Owners and operators of rotary kilns using a control device with multiple stack exhaust or roof monitor may instead monitor visible emissions at least once a day by a certified observer using EPA Method 9. Owners or operators of affected facilities using a wet scrubber emission control device shall install, calibrate, maintain, and operate a continuous monitoring device which monitors the pressure loss of the gas stream through the scrubber, and a continuous monitoring device which monitors the scrubbing liquid supply pressure to the control device.

Semiannual excess emissions reports and monitoring system performance reports shall include all six-minute periods during which the average opacity of the visible emissions from any lime kiln is greater than 15% or for wet scrubbers, any period in which the scrubber pressure drop is greater than 30% below the rate established during the performance test, and reports of the visible emissions; the date and time of the exceedance or deviance; the nature and the cause of the malfunction and corrective measures taken; and identification of the time period during which the CMS was inoperative.

Burden Statement: In the previously approved ICR, the estimated number of respondents for this information collection was 49 with 102 responses per year. The annual industry reporting and recordkeeping burden for this collection of information was 4,190 hours. On the average, each respondent reported approximately two times per year and 41 hours were spent preparing each response. The total annual reporting and recordkeeping cost burden for this collection of information was $95,000. This included an annual cost of $22,000 associated with capital/startup costs and $73,000 associated with the annual operation and maintenance costs.

(2) NSPS subpart I: NSPS for Hot Mix Asphalt Facilities (40 CFR part 60, subpart I); EPA ICR Number 1127.07; OMB Control Number 2060-0083; expiration date January 31, 2003.

Affected Entities: Entities potentially affected by this action are hot mix asphalt facilities subject to 40 CFR part 60, subpart I and include the following processes: Dryers; systems for screening, handling, storing, and weighing hot aggregate; systems for loading, transferring, and storing mineral filler; systems for mixing hot asphalt; and the loading, transfer and storage systems associated with emission control systems which commenced construction, modification, or reconstruction after June 11, 1973.

Abstract: The Agency has determined that particulate matter from lime manufacturing causes, or contributes significantly to air pollution that may reasonably be anticipated to endanger public health or welfare. Owners or operators of the affected facilities described must make the following one-time-only reports: notification of the date of construction or reconstruction; notification of the anticipated and actual date of the startup; notification of any physical or operational change to an existing facility which may increase the regulated pollutant emission rate; and notification of the date of the initial performance test including information necessary to determine the conditions of the performance test measurements and results, such as particulate matter concentration and opacity. Owners or operators are also required to maintain records of the occurrence and duration of any startup shutdown, or malfunction in the operation of an affected facility as well as the nature and cause of the malfunction and corrective measures taken.

Burden Statement: In the previously approved ICR, the estimated number of respondents for this information collection was estimated to be 3,290 with 200 responses per year. The annual recordkeeping and reporting hour burden for this collection was estimated to be 6,890 hours. On the average, each respondent reported approximately 0.06 times per year and 34 hours were spent preparing each response. There are no capital/startup costs or operation and maintenance costs associated with continuous emission monitoring in the previous ICR; therefore, there are no capital, or operation and maintenance costs associated with this ICR.

(3) NSPS subpart Ce: Emission Guidelines for Hospital/Medical/Infectious Waste Incinerators (40 CFR part 60, subpart Ce); EPA ICR Number 1899.02; OMB Control Number 2060-0422; expiration date January 31, 2003.

Affected Entities: Entities potentially affected by this action are owners and operators of hospital/medical/infectious waste incinerators (HMIWI) for which construction commenced before June 20, 1996 and States and Tribes who develop State or Tribal plans to implement the Emission Guidelines.

Abstract: The Agency has determined that particulate matter, carbon monoxide, dioxins/furans, and mercury from hospital/medical/infectious waste incinerators cause or contribute to air pollution that may reasonably be anticipated to endanger public health or welfare.

The Emission Guidelines contain monitoring, reporting, and recordkeeping requirements that are to be included in State or Tribal plans. These requirements differ for HMIWI burning hospital waste and/or medical/infectious waste; for combustors co-firing hospital waste and/or medical/infectious waste with other fuels; and for incinerators burning only pathological, low-level radioactive, and/or chemotherapeutic waste.

Owners and operators of HMIWI are required to submit one-time-only increments of progress reports showing progress toward meeting the new emissions limitations. Owners and operators of HMIWI are also required to submit annual and semiannual compliance reports on a variety of site-specific operating parameters malfunction episodes, exceedances, and performance tests. For small rural HMIWI, an annual report containing information recorded during the annual equipment inspection is also required. Owners and operators of co-fired combustors are required to provide the Administrator with notification reports on an exemption claim and report and maintain records on the weight of hospital waste and medical/infectious, and other fuels and/or wastes to be combusted. Owners and operators of incinerators burning only pathological, low-level radioactive, and/or chemotherapeutic waste are required to provide notification reports to Administrator of an exemption claim.

The information will be used by the appropriate State, Tribal or EPA enforcement official to ensure that the requirements of the State, Tribal, or Federal Plan are being implemented on a continuous basis through proper operation and maintenance of the emission control device. In addition, certain records and reports are necessary to enable the Administrator to identify an HMIWI that may not be in compliance with the standards.

Burden Statement: In the previously approved ICR, the estimated number of respondents for this information collection was 537 with 1,146 responses per year. The annual industry reporting and recordkeeping burden for this collection of information was 133,404 hours. On the average, each respondent reported approximately 2.1 times per year and 116 hours were spent preparing each response. There are no capital/startup costs or operations and maintenance costs associated with continuous emission monitoring in the previous ICR; therefore, there are no capital, or operation and maintenance costs associated with this ICR.

(4) NSPS subpart DD: New Source Performance Standards for Grain Elevators (40 CFR part 60, subpart DD); EPA ICR Number 1130.07; OMB Control Number 2060-0082, expiration date January 31, 2003.

Affected Entities: Potentially affected facilities include each truck unloading station, truck loading station, barge and ship unloading station, barge and ship loading station, railcar unloading station, railcar loading station, grain dryer, and all grain handling operations at any grain terminal elevator or any grain storage elevator.

The standards require owners or operators of the affected facilities to make the following one-time-only reports: Notification of the date of construction or reconstruction; notification of the actual date of startup; notification of any physical or operational change to an existing facility that may increase the rate of emission of the regulated pollutant; notification of the date of the initial performance test; and the results of the initial performance test. Records must be maintained of the occurrence and duration of any startup, shutdown, or malfunction in the operation of an affected facility, as well as the nature and cause of the malfunction and corrective measures taken.

Burden Statement: In the previously approved ICR, the estimated number of respondents for this information collection was 121 with 121 responses per year. The annual industry reporting and recordkeeping burden for this collection of information was 250 hours. On the average, each respondent reported approximately two times per year and two hours were spent preparing each response. There are no capital/startup costs or operations and maintenance costs associated with continuous emission monitoring in the previous ICR; therefore, there are no capital, or operation and maintenance costs associated with this ICR.

(5) NSPS subpart EE: NSPS for Metal Furniture Coating (40 CFR part 60, subpart EE); EPA ICR Number 0649.08; OMB Control Number 2060-0106; expiration date January 31, 2003.

Affected Entities: Entities potentially affected by this action are each metal furniture surface coating operation in which organic coatings are applied. These standards apply to surface coating facilities for which construction, modification or reconstruction commenced after the date of proposal, November 28, 1980. A surface coating operation includes the coating application station(s), flash-off area, and curing oven.

Abstract: The Agency has determined that the emissions from surface coating operations cause, or contribute significantly to air pollution that may reasonably be anticipated to endanger public health or welfare. Volatile organic compounds (VOC) are the pollutants regulated under this rule. Owners and operators of the affected facilities described must make the following one-time only reports: notification of the date of construction or reconstruction; notification of the anticipated and actual dates of a startup; notification of any physical or operational change to an existing facility which may increase the regulated pollutant emission rate; notification of the date of the initial performance test; and results of the initial performance test. Owners or operators are also required to maintain records of the occurrence and duration of any startup, shutdown, or malfunction in the operation of an affected facility, or any period during which the monitoring system is inoperative.

Recordkeeping and reporting requirements include the performance test results including the type of coating used, and the VOC content. The rule requires daily records of temperature if thermal incineration is used. For catalytic incineration, daily records of gas stream temperature both upstream and downstream are required, or a daily record of the quantity of solvent recovered if a solvent recovery device is used. Monthly averages are calculated, and any affected facility shall report quarterly on any excess emissions, or semiannually if no excess emissions occur. Any owner or operator subject to the provisions of the rule, shall maintain at the source, for a period of at least two years, records of all data calculations used to determine monthly VOC emissions from each affected facility and to determine the monthly emissions limit, where applicable.

Burden Statement: In the previously approved ICR, the estimated number of respondents for this information collection was 553 with 1,600 responses per year. The annual industry reporting and recordkeeping burden for this collection of information was 101,070 hours. On the average, each respondent reported approximately 2.9 times per year and 63 hours were spent preparing each response. The total annual reporting and recordkeeping cost burden for this collection of information was $1,120,000. This included an annual cost of $114,000 associated with capital/startup costs and $1,006,000 associated with the annual operation and maintenance costs.

(6) NSPS subpart RR: NSPS for Pressure Sensitive Tape and Label Surface Coating (40 CFR part 60, subpart RR); EPA ICR Number 0658.08; OMB Control Number 2060-0004; expiration date January 31, 2003.

Affected Entities: Entities potentially affected by this action are each coating line used in the manufacture of pressure sensitive tape and label materials that was construction or commenced reconstruction after December 30, 1980.

Abstract: The Agency has determined that the emissions from pressure sensitive tape and label surface coating operations cause, or contribute significantly to air pollution that may reasonably be anticipated to endanger public health or welfare. Volatile organic compounds (VOC) are the pollutants regulated. Under the standards, owners and operators of the affected facilities must make the following one-time-only reports: notification of the date of construction or reconstruction; notification of the anticipated and actual dates of initial startup; notification of any physical change to an existing facility that may increase the regulated pollutant emission rate; notification of initial performance test and the results of the initial performance test. Owners or operators are also required to maintain records of the occurrence and duration of any startup, shutdown or malfunction in the operation of an affected facility, or any period during which the monitoring system is inoperative.

The recordkeeping requirements for the surface coating industry of pressure sensitive tape and labels consist of the occurrence and duration of any startup and malfunctions as described. They include the initial performance test results including information necessary to determine conditions of the performance test; performance test measurements and results including, for affected facilities complying with the standard without the use of add-on controls, a weighted average of the mass of solvent used per mass of coating solids applied; the weighted average mass of VOC per mass of coating solids applied at facilities controlled by a solvent recovery device; the weighted average mass of VOC per mass of coating solids applied being used at a facility controlled by a solvent destruction device; and the results of the monthly performance and records of operating parameters.

Burden Statement: In the previously approved ICR, the estimated number of respondents for this information collection was 410 with 1,025 responses per year. The annual industry reporting and recordkeeping burden for this collection of information was 39,104 hours. On the average, each respondent reported approximately 2.5 times per year and 38 hours were spent preparing each response. The total annual reporting and recordkeeping cost burden for this collection of information was $1,880,000. This included an annual cost of $240,000 associated with capital/startup costs and $1,640,000 associated with the annual operation and maintenance costs.

(7) NSPS subpart SS: NSPS for Surface Coating of Large Appliances (40 CFR part 60, subpart SS); EPA ICR Number 0659.09; OMB Control Number 2060-0108; expiration date January 31, 2003.

Affected Entities: Entities potentially affected by this action are each surface coating operation in a large appliance surface coating line commencing construction, modification or reconstruction after December 24, 1980.

Abstract: The Agency has determined that the emissions from large appliance surface coating line operations cause, or contribute significantly to air pollution that may reasonably be anticipated to endanger public health or welfare. Volatile organic compounds (VOC) are the pollutants regulated under the standards. Owners or operators of the affected facilities described must make the following one-time-only reports: notification of the date of construction or reconstruction; notification of the anticipated and actual dates of startup; notification of any physical or operational change to an existing facility which may increase the regulated pollutant emission rate; notification of the date of the initial performance test; and results of the initial performance test. Owners or operators are also required to maintain records of the occurrence and duration of any startup, shutdown, or malfunction in the operation of an affected facility, or any period during which the monitoring system is inoperative.

Recordkeeping and reporting requirements include the performance test results including the type of coating used, and the VOC content. The standards require daily records of temperature if thermal incineration is used. For catalytic incineration, daily records of gas stream temperature both upstream and downstream are required, or a daily record of the quantity of solvent recovered if a solvent recovery device is used. Monthly averages are calculated, and any affected facility shall report quarterly excess emissions or semiannual reports if no excess emissions occur.

Burden Statement: In the previously approved ICR, the estimated number of respondents for this information collection was 294 with 1,273 responses per year. The annual industry reporting and recordkeeping burden for this collection of information was 29,564 hours. On the average, each respondent reported approximately 4.3 times per year and 23 hours were spent preparing each response. The total annual reporting and recordkeeping cost burden for this collection of information was $618,000. This included an annual cost of $83,000 associated with capital/startup costs and $535,000 associated with the annual operation and maintenance costs.

(8) NSPS subpart TT: NSPS for Metal Coil Surface Coating (40 CFR part 60, subpart TT); EPA ICR Number 0660.08; OMB Control Number 2060-0107; expiration date January 31, 2003.

Affected Entities: Entities potentially affected by this standard are operations that are part of metal coil coating manufacturing including: each prime coat operation; each finish coat operation; and each prime and finish coat operation cured simultaneously where the finish coat is applied wet-on-wet over the prime coat. These standards apply to metal coil surface coating facilities commencing construction, modification or reconstruction after January 5, 1981.

Abstract: The Agency has determined that the emissions from metal coil surface coating facilities cause, or contribute significantly to air pollution that may reasonably be anticipated to endanger public health or welfare. Volatile organic compounds (VOC) are the pollutants regulated under the standards. Owners or operators of the affected facilities must make the following one-time-only reports: Notification of the date of construction or reconstruction; notification of the anticipated and actual dates of a startup; notification of any physical or operational change to an existing facility which may increase the regulated pollutant emission rate; notification of the date of the initial performance test; and results of the initial performance test. Owners or operators are also required to maintain records of the occurrence and duration of any startup, shutdown, or malfunction in the operation of an affected facility, or any period during which the monitoring system is inoperative.

Recordkeeping requirements depend on whether low VOC content coatings are used, or higher VOC content coatings are used in conjunction with an emission control device. Where compliance is achieved through the use of low VOC-content coating without emission control devices, or through the use of higher VOC content coating in conjunction with emission control devices, each owner or operator shall include in the initial compliance report the weighted average of the VOC content of coatings used during the period of one calender month for each affected facility. Where compliance is achieved using an emission control device that destroys VOC, each owner or operator shall include in the initial compliance report the overall VOC destruction rate used to attain compliance and the combustion temperature of the thermal incinerator, or the gas temperature both upstream and downstream of the incinerator catalyst bed. The standards also require reports of incinerator temperature drop. Affected facilities shall report quarterly excess emissions or semiannual reports if no emissions occur.

Burden Statement: In the previously approved ICR, the estimated number of respondents for this information collection was 156 with 585 responses per year. The annual industry reporting and recordkeeping burden for this collection of information was 15,335 hours. On the average, each respondent reported approximately 3.8 times per year and 26 hours were spent preparing each response. The total annual reporting and recordkeeping cost burden for this collection of information was $398,000. This included an annual cost of $114,000 associated with capital/startup costs and $284,000 associated with the annual operation and maintenance costs.

(9) NSPS subpart WW: NSPS for Beverage Can Surface Coating (40 CFR part 60, subpart WW); EPA ICR Number 0663.08; OMB Control Number 2060-0001; expiration date January 31, 2003.

Affected Entities: Entities potentially affected by this action are facilities in the beverage can surface coating industry including: each exterior base coat operation, each over varnish coating operation, and each inside spray coating operation. These standards apply to coating facilities commencing construction, modification or reconstruction after November 26, 1980.

Abstract: The Agency has determined that the emissions from beverage can surface coating lines cause, or contribute significantly to air pollution that may reasonably be anticipated to endanger public health or welfare. Volatile organic compounds (VOC) are the pollutants regulated under the standards. Owners or operators of the affected facilities described must make the following one-time-only reports: notification of the date of construction or reconstruction; notification of the anticipated and actual dates of a startup; notification of any physical or operational change to an existing facility which may increase the regulated pollutant emission rate; notification of the date of the initial performance test; and results of the initial performance test. Owners or operators are also required to maintain records of the occurrence and duration of any startup, shutdown, or malfunction in the operation of an affected facility, or any period during which the monitoring system is inoperative.

Records must be maintained if the VOC content of coatings is below the specified limits. If one or more coatings are used, the volume weighted average of the total mass of VOC per volume of coating solids must be recorded. When thermal or catalytic incineration is performed, the owner shall keep records of each three-hour period during which the incinerator temperature averaged more than 28 degrees Celsius below the temperature of the most recent performance test at which destruction efficiency was determined. The owners or operators shall identify, record and submit quarterly reports of each instance in which the volume-weighted average of the total mass of VOC per volume of coating solids exceeded the standard. If there are no exceedances reports shall be submitted semiannually.

Owners or operators are required to maintain a file of all measurements including the monitoring device, and performance testing measurements; all monitoring device calibration check adjustments and maintenance performed on these systems recorded in a permanent file.

Burden Statement: In the previously approved ICR, the estimated number of respondents for this information collection was 24 with 105 responses per year. The annual industry reporting and recordkeeping burden for this collection of information was 3,092 hours. On the average, each respondent reported approximately 4.3 times per year and 29 hours were spent preparing each response. The total annual reporting and recordkeeping cost burden for this collection of information was $50,000. This included an annual cost of $6,000 associated with capital/startup costs and $44,000 associated with the annual operation and maintenance costs.

(10) NESHAP subpart FF: NESHAP for Benzene Emissions for Benzene Waste Operations (40 CFR part 61, subpart FF); EPA ICR Number 1541.07; OMB Number 2060-0183; expiration date February 28, 2003.

Affected Entities: Entities potentially affected by this action are benzene waste operations such as chemical manufacturing plants, coke by-product recovery plants, and petroleum refineries. Other affected entities are those owners and operators of hazardous waste treatment, storage, and disposal facilities (TSD) which receive wastes from the above facilities.

Abstract: The Agency has determined that the emissions from benzene waste operations cause, or contribute significantly to air pollution that may reasonably be anticipated to endanger public health or welfare. The provisions of this subpart apply to owners and operators of chemical manufacturing plants, coke by-product recovery plants, and petroleum refineries. In addition, this standard applies to owners and operators of hazardous waste treatment, storage, and disposal facilities that treat, store, or dispose of hazardous waste generated from the above facilities.

The calculation of total annual benzene (TAB) quantity in all aqueous waste streams determines whether a facility is subject to control requirements of the standard. A facility at or above the TAB threshold in the rule of 10 megagrams per year (Mg/yr) is required to control each benzene waste stream at the facility or demonstrate that the waste stream meets a criterion in the rule for exemption from control. A facility with a TAB below 10 Mg/yr is only subject to the rule's reporting and recordkeeping provisions, unless the facility receives a waste from offsite that must be controlled to meet the standards in which case that waste must be controlled. A facility with a TAB less than 1 Mg/yr is only subject to maintain documentation of the quantity of benzene in the waste.

Owners or operators of the affected facilities described above must make the following one-time-only notices or reports: notifications of anticipated and actual startup; notification of emission test, report following an emission test; notification of any physical/operational changes that could increase emissions, a monitoring system performance test; and certain reports regarding the monitoring system performance test(s).

Recordkeeping requirements for benzene waste operations include maintaining records that identify each waste stream at the facility subject to this subpart, and indicate whether the waste stream is controlled for benzene emissions in accordance with this standard. In addition the owner or operator must maintain the records: (1) For each waste stream not controlled for benzene emissions, (2) for each process wastewater stream not controlled for benzene emissions, (3) for each facility where process wastewater streams are controlled for benzene emissions, (4) for each facility where wastewater streams are controlled for benzene emissions. Owners or operators transferring waste offsite to another facility for treatment shall maintain documentation for each offsite waste shipment, and engineering design documentation for all control equipment installed on the waste management unit. The documentation shall be retained for the life of the control equipment.

Burden Statement: In the previously approved ICR, the estimated number of respondents for this information collection was 240 with 240 responses per year. The annual industry reporting and recordkeeping burden for this collection of information was 17,028 hours. On the average, each respondent reported approximately one time per year and 71 hours were spent preparing each response. There are no capital/startup costs or operations and maintenance costs associated with continuous emission monitoring in the previous ICR; therefore, there are no capital, or operation and maintenance costs associated with this ICR.

(11) NSPS subpart AAAA: Reporting and Recordkeeping Requirements for the New Source Performance Standards for Small Municipal Waste Combustors (40 CFR part 60, subpart AAAA) EPA ICR 1900.02; OMB Control Number 2060-0423; expiration date February 28, 2003.

Affected Entities: Entities potentially affected by this action are owners or operators of small municipal waste combustors (MWC) units with capacities greater than 35 tons per day, but less than 250 tons per day for which commenced construction after August 30, 1999, or commenced modification, or reconstruction after June 6, 2001.

Abstract: The Agency has determined that the emissions from small municipal waste combustors cause, or contribute significantly to air pollution that may reasonably be anticipated to endanger public health or welfare. Small MWCs emit toxic organics, metals, acid gases, carbon monoxide and fugitive ash owners. Owners or operators must conduct initial compliance tests and compliance demonstrations for all pollutants, operating parameters, and continuous monitoring systems. Annual performance tests and continuous monitoring systems (CEMS) for certain pollutants and operating parameters is also required. Owners or operators of small MWC units must submit an initial compliance report for all regulated pollutants and parameters. Once a year, owners or operators must submit an annual report that indicates the highest emission level determined during the annual test or recorded using the CEMS for all regulated pollutants. The report must also include the lowest calculated hourly carbon feed rate.

If the emission level recorded for any of these pollutants is above the emission limit for the pollutant, or if any operating parameter is outside a specified range, then the owner or operator is required to submit a semiannual report for the calendar half during which the test was conducted or data was collected. The standards include provisions that would allow less frequent reporting if certain criteria are met.

Owners or operators of small MWC units are required to keep records of certain parameters, and maintain records of employees names and dates of their initial and annual review of the site-specific operating manual parameters. Records of continuous measurements of MWC unit load, the particulate matter control device temperature, and computation of average emissions and operating parameters, as well as opacity measurements are required. Owners or operators are also required to maintain records that identify the date, operating parameters, and opacity level exceedances, with reasons and a description of corrective action. Owners or operators are required to keep records of results of daily sulfur dioxide, nitrogen oxides, and carbon monoxide, CEMS drift tests, and quarterly accuracy assessments. Owners or operators are required to maintain records of initial performance tests and all annual performance retests for compliance with particulate matter, dioxins/furans, hydrochloric acid (HCl), cadmium, lead, and mercury limits. Owners or operators also maintain records of periodic testing for fugitive ash emissions.

Burden Statement: In the previously approved ICR, the estimated number of respondents for this information collection was 3 with 6 responses per year. The annual industry reporting and recordkeeping burden for this collection of information was 8,559 hours. On the average, each respondent reported approximately two times per year and 1,427 hours were spent preparing each response. The total annual reporting and recordkeeping cost burden for this collection of information was $219,000. This included an annual cost of $200,000 associated with capital/startup costs and $19,000 associated with the annual operation and maintenance costs.

(12) NSPS subpart BBBB: Emission Guidelines Reporting and Recordkeeping Requirements for Existing Small Municipal Waste Combustion (MWC) Units (40 CFR part 60, subpart BBBB); EPA ICR Number 1901.02; OMB Control Number 2060-0424; expiration date February 28, 2003.

Affected Entities: Respondents are owners or operators of existing small MWC units. Small MWC units are units with capacities to combust greater than 35 tons per day and less than 250 tons per day of municipal solid waste.

Abstract: The Agency has determined that the emissions from small municipal waste combustion units, cause or contribute significantly to air pollution that may reasonably be anticipated to endanger public health or welfare. Owners and operators of MWCs that have retrofit schedules longer than one year are required to submit reports or notifications documenting increments of progress.

Owners or operators are required to conduct initial compliance tests and compliance demonstrations for all pollutants and parameters, as well as continuous monitoring or annual retests of all pollutants and parameters, unless the owner or operator qualifies for less frequent dioxin/furan testing. As a means of determining continuous compliance for mercury and dioxin/furan, owners or operators are required to keep records of the quarterly amount of activated carbon injected, and to calculate the average carbon injection rate for each hour of operation.

Owners or operators of small MWC units are required to submit an initial compliance report for all regulated pollutants and parameters. Once a year, owners or operators of small MWC units are required to submit an annual report for all regulated pollutants and parameters that summarizes data collected for all pollutants and parameters regulated under the standard. Owners or operators are required to submit an annual report that indicates the highest emission level determined during the annual test, or recorded using continuous emissions monitoring systems, load level, control device inlet temperature, and opacity. If the emission level recorded for any of these pollutants shows emissions above the emission limit for the pollutant, or a calculated carbon injection rate below the carbon injection rate established during the mercury or dioxin/furan annual retest, then the owner or operator is required to submit a semiannual report for the calendar half during which the test was conducted or data were collected, and the report is required to include the supporting data or test report and an explanation for the exceedances. Owners or operators are not required to submit test reports, or raw CEMS data unless a pollutant or parameter is recorded as exceeding the emission limit for the pollutant or parameter.

If three annual compliance tests in a row indicate compliance with the particulate matter (PM), dioxin/furan, hydrochloric acid (HCl), cadmium (Cd), lead (Pb), and/or mercury (Hg) emission limits, then owners or operators of small MWC units (where the aggregate plant capacity is less than 250 tons per year) may skip the annual performance test for that particular pollutant for the next two years. If the next test after skipping two years shows compliance, another two-year period may be skipped. At a minimum, performance tests for PM, dioxins/furans, HCl, Cd, Pb, and Hg are required by small MWC plants every 3 years. In all cases, annual tests for opacity and fly ash/bottom ash fugitive emissions are required and may not be skipped. In addition, a provision for less frequent dioxin/furan testing allows plants to test only one unit per year rather than all units, as is normally required, if all units at the plant achieve emission levels significantly lower than the emission limit for two consecutive years. It is believed that most units will qualify for this option.

Under the standards, owners or operators of affected units are required to keep records of the following information: (1) Employees names and dates of their initial and annual review of the site-specific operating manual; (2) emission rates and CEMS parameters for nitrogen oxides, sulfur dioxides, carbon monoxide, oxygen, carbon dioxide, and opacity; (3) continuous measurements of small MWC unit load and PM control device temperature, and computation of average emissions and operating parameters; (4) the date and operating parameters of any opacity level exceedances, with reasons and a description of corrective action; (5) results of daily SO2, NOX, and CO CEMS drift tests and quarterly Appendix F accuracy assessments; (6) records of initial performance tests and all annual performance retests for compliance with PM, dioxin/furan, HCl, Cd, Pb, and Hg limits; and (7) records of periodic testing for fugitive ash emissions.

Burden Statement: In the previously approved ICR, the estimated number of respondents for this information collection was estimated to be 41 with 90 responses per year. The annual recordkeeping and reporting hour burden for this collection was estimated to be 1,297 hours. On the average each respondent reported 2.2 times per year. For each new facility, the initial notifications and performance test require approximately 14 hours. There are no capital/startup costs or operations and maintenance costs associated with continuous emission monitoring in the previous ICR; therefore, there are no capital, or operation and maintenance costs associated with this ICR.

(13) NSPS subpart D: Standards of Performance for Fossil Fuel Fired Steam Generating Units (40 CFR part 60, subpart D); EPA ICR Number 1052.07; OMB Number 2060-0026; expiration date February 28, 2003.

Affected Entities: Entities potentially affected by this action are fossil-fuel-fired steam generating units which are capable of combusting fossil fuel at a heat input rate of more than 73 megawatts (250 million Btu per hour).

Abstract: The Agency has determined that the emissions from fossil-fuel-fired steam generating units cause, or contribute significantly to air pollution that may reasonably be anticipated to endanger public health or welfare. These standards apply to emissions from each fossil-fuel-fired steam generating unit which is capable of combusting more than 73 megawatts (250 million Btu per hour) heat input of fossil fuel. The standards limit the emissions of sulfur dioxide, particulate matter, and nitrogen oxides.

Owners or operators of the affected facilities described must make one-time-only notifications, and are also required to maintain records of the occurrence and duration of any startup, shutdown, or malfunction in the operation of an affected facility, or any period during which the monitoring system is inoperative. Monitoring requirements specific to the standards provide information on compliance with the emission limits. Quarterly reports of excess emissions are also required.

Burden Statement: In the previously approved ICR the estimated number of respondents for this information collection was 660 with 2,640 responses per year. The annual industry reporting and recordkeeping burden for this collection of information was 62,865 hours. On the average each respondent reported one time per year and four hours were spent preparing each response. In the previously approved ICR, the estimated number of respondents for this information collection was 49 with 102 responses per year. The annual industry reporting and recordkeeping burden for this collection of information was 4,190 hours. On the average, each respondent reported approximately two times per year and 41 hours were spent preparing each response. The total annual reporting and recordkeeping cost burden for this collection of information was $9,900,000. Since there were no capital/startup costs associated with the ICR the annual reporting and recordkeeping cost was comprised entirely of annual operation and maintenance expenses.

(14) NSPS subpart Da: Standards of Performance for Electric Utility Steam Generating Units (40 CFR part 60, subpart Da); EPA ICR Number 1053.07; OMB Number 2060-0023; expiration date February 28, 2003.

Affected Entities: The standards apply to each electric utility steam generating unit which is capable of combusting more than 73 megawatts (MW) heat input of fossil fuel, for which, commencing construction, modification, or reconstruction after the date of proposal.

Owners or operators of the affected facilities described must make one-time-only notifications. Owners or operators are also required to maintain records of the occurrence and duration of any startup, shutdown, or malfunction in the operation of an affected facility, or any period during which the monitoring system is inoperative. Monitoring requirements specific to electric utility steam generating units provide information on the operation of the emissions control device and compliance with the sulfur dioxide, nitrogen oxides, and particulate matter standards. Quarterly reports of excess emissions, and/or semiannual reports are required.

Burden Statement: In the previously approved ICR, the estimated number of respondents for this information collection was 129 with 494 responses per year. The annual industry reporting and recordkeeping burden for this collection of information was 28,606 hours. On the average, each respondent reported approximately 3.8 times per year and 58 hours were spent preparing each response. The total annual reporting and recordkeeping cost burden for this collection of information was $3,095,000. This included an annual cost of $1,400,000 associated with capital/startup costs and $1,695,000 associated with the annual operation and maintenance costs.

(15) NSPS subpart Db: Industrial/Commercial/Institutional Steam Generating Units (40 CFR part 60, subpart Db); EPA ICR Number 1088.10; OMB Number 2060-0072; expiration date February 28, 2003.

Affected Entities: These standards apply to industrial-commercial-institutional steam generating units that commenced construction, modification, or reconstruction after June 19, 1984, and that have a heat input capacity from fuels combusted in the unit of greater than 29 MW which is equivalent to 100 million Btu per hour.

Owners or operators of the affected facilities described must make one-time-only notifications, and are also required to maintain records of the occurrence and duration of any startup, shutdown, or malfunction in the operation of an affected facility, or any period during which the monitoring system is inoperative. Monitoring requirements specific to these standards provide information on compliance with the emission limits. Quarterly reports of excess emissions, or semiannual reports stating that there were no excess emissions, are required.

Burden Statement: In the previously approved ICR, the estimated number of respondents for this information collection was 957 with 3,016 responses per year. The annual industry reporting and recordkeeping burden for this collection of information was 575,000 hours. On the average, each respondent reported approximately 3.2 times per year and 191 hours were spent preparing each response. The total annual reporting and recordkeeping cost burden for this collection of information was $25,955,000. This included an annual cost of $11,160,000 associated with capital/startup costs and $14,355,000 associated with the annual operation and maintenance costs.

(16) NESHAP subpart M: National Emission Standards for Hazardous Air Pollutants for Asbestos (40 CFR part 61, subpart M); EPA ICR Number 0111.10; OMB Control Number 2060-0101; expiration date February 28, 2003.

Affected Entities: Entities potentially affected by this action are: (1) Owners/operators of asbestos milling, manufacturing and fabricating facilities; (2) those facilities demolishing or renovating facilities; and (3) those facilities managing active or inactive waste disposal sites. The standards apply to the following operations: demolition and renovation; the disposal of asbestos waste; asbestos milling, manufacturing and fabricating; the use of asbestos on roadways; asbestos waste conversion; and the use of asbestos insulation and sprayed-on materials in construction.

Abstract: The Agency has determined that the emissions from asbestos milling, manufacturing, fabricating, demolition, roadway construction, and asbestos waste conversion cause, or contribute significantly to air pollution that may reasonably be anticipated to endanger public health or welfare.

Owners or operators of the affected milling, manufacturing, fabricating, waste disposal, and waste conversion facilities described must make one-time-only notifications and are also required to maintain records of the occurrence and duration of any startup, shutdown, or malfunction in the operation of an affected. Recordkeeping includes the initial performance test results including information necessary to determine the conditions of the performance test, and performance test measurements and results, including monitoring each potential source of asbestos emissions for visible emissions to the outside air and inspecting air cleaning devices to ensure proper operation. The reporting requirements include the initial notifications listed, the initial performance test results, and quarterly reports of instances when visible emissions are observed.

Persons conducting demolitions and renovations must notify the Agency, in advance, of the initiation of any asbestos removal work. The demolition and renovation standard requires that a representative trained in the provisions of the standard be present at the facility. Evidence that the required training has been completed is required. The provisions require that all containers of asbestos waste be labeled including the name of the waste generator and the location of where the waste was generated. Owners or operators of demolitions and renovations are required to prepare and maintain records of each waste shipment as to its destination, the quantity of waste, and the date of shipment, and to furnish a copy of the record to disposal site owners or operators. The regulation also requires that the generators of asbestos waste attempt to reconcile instances in which a signed copy of the waste shipment record is not received from the disposal site and that the generator notify the Administrator if delivery to the disposal site cannot be confirmed.

Owners and operators of waste disposal sites are required to document all asbestos waste shipments that are received and send a copy of each record back to the generator. A record of the location and quantity of asbestos in the landfill is required as well as noting the presence and location of asbestos in the landfill property deed. Disposal site owners and operators have to report to the Administrator any discrepancies between the amount of waste designated on the waste shipment record and the amount actually received, as well as instances of improperly contained waste. An owner or operator of an operation in which asbestos-containing materials are spray-applied must notify the Administrator in advance of the spraying operation. The notice provides information on the name and address of the owner or operator, location of the spraying operation, and procedures to be followed.

Burden Statement: In the previously approved ICR, the estimated number of respondents for this information collection was estimated to be 10,647 with 134,340 responses per year. The annual recordkeeping and reporting hour burden for this collection was estimated to be 362,159 hours. On the average each respondent reported 12.6 times per year, and 2.7 hours were spent preparing each response. There are no capital/startup costs or operations and maintenance costs associated with continuous emission monitoring in the previous ICR; therefore, there are no capital, or operation and maintenance costs associated with this ICR.

(17) NESHAP-MACT subpart VVV: NESHAP for Publicly Owned Treatment Works (POTWs) (40 CFR part 63, subpart VVV); EPA ICR Number 1891.03; OMB Number 2060-0428; expiration date February 28, 2003.

Affected Entities: Entities potentially affected by this action are POTWs that are major sources of hazardous air pollutants, become a major source after October 29, 1999, or reconstruct the treatment plant.

Abstract: The Agency has determined that the emissions from publicly owned treatment works cause, or contribute significantly to air pollution that may reasonably be anticipated to endanger public health or welfare.

The required recordkeeping and reporting enable the Administrator to: (1) Identify new sources subject to the standards, and (2) to ensure that the POTWs affected by the standards comply with the applicable regulations. The reports are used by the Administrator to: (1) Identify new HAP emission points subject to the standards, (2) identify the emission control devices and control methodologies being applied, and (3) ensure that the emission control devices and control methodologies are being properly operated and maintained on a continuous basis.

Burden Statement: The standards require no additional control requirements for existing major sources. In the previously approved ICR, the estimated number of respondents for this information collection was estimated to be one with one response per year. The annual recordkeeping and reporting hour burden for this collection was estimated to be 41 hours. On the average each respondent reported one time per year, and 41 hours were spent preparing each response. There are no capital/startup costs or operations and maintenance costs associated with continuous emission monitoring in the previous ICR; therefore, there are no capital, or operation and maintenance costs associated with this ICR.

(18) NSPS subpart BB: New Source Performance Standards for Kraft Pulp Mills (40 CFR part 60, subpart BB); EPA ICR Number 1055.07; OMB Control Number 2060-0021; expiration date February 28, 2003.

Affected Entities: Entities potentially affected by this action are affected facilities at kraft pulp mills including digester systems, brown stock washer systems, multiple effect evaporator systems, recovery furnaces, smelt dissolving tanks, lime kilns, and condensate stripper systems that were constructed, modified or reconstructed after September 24, 1976. In pulp mills where kraft pulping is combined with neutral sulfite semi-chemical pulping, the provisions of this subpart are applicable when any portion of the material charged to an affected facility is produced by the kraft pulping operation. A facilities may be exempt from the total reduced sulfur (TRS) standard if the facility can demonstrate that TRS from a new, modified or reconstructed brown stock washer cannot be technically nor economically feasiblely controlled.

Abstract: The Agency has determined that total reduced sulfur (TRS) and particulate matter emissions from kraft pulp mills cause or contribute to air pollution that may reasonably be anticipated to endanger public health or welfare.

In addition to the monitoring, recordkeeping and reporting requirements listed in the General Provisions (40 CFR part 60, subpart A), sources are required to record, at least once per shift, the following specific parameters: The opacity of the gases discharged into the atmosphere from any recovery furnace; the concentration of TRS emissions on a dry basis and the percent of oxygen by volume on a dry basis in the gases discharged into the atmosphere; for an incinerator, the combustion temperature at the point of incineration of effluent gases being emitted by the affected facilities; and for any lime kiln or melt discharge tank using a scrubber emission control device, the pressure loss of the gas stream through the control equipment and the scrubbing liquid pressure to the control equipment. Sources are also required to record on a daily basis 12-hour average TRS concentrations and oxygen concentrations (for the recovery furnace and lime kiln) for two consecutive periods of each operating. Sources must report semiannually measurements of excess emissions as defined by the standard for the applicable affected facility.

Burden Statement: In the previously approved ICR, the estimated number of respondents for this information collection was 82 with 170 responses per year. The annual industry reporting and recordkeeping burden for this collection of information was 9,959 hours. On the average, each respondent reported approximately 2.1 times per year and 59 hours were spent preparing each response. The total annual reporting and recordkeeping cost burden for this collection of information was $2,828,000. This included an annual cost of $300,000 associated with capital/startup costs and $2,528,000 associated with the annual operation and maintenance costs.

(19) NSPS subpart HHH: New Source Performance Standards for Synthetic Fiber Production Facilities (40 CFR part 60, subpart HHH); EPA ICR Number 1156.09; OMB Control Number 2060-0059; expiration date January 31, 2003.

Affected Entities: Entities potentially affected by this rule are each solvent-spun synthetic fiber process that produces more than 500 megagrams of fiber per year and that commenced construction or reconstruction after November 23, 1982. The provisions of this subpart do not apply to any facility that uses the reaction spinning process to produce spandex fiber or the viscose process to produce rayon fiber, nor to facilities that commence modification but not reconstruction after November 23, 1982.

Abstract: The Agency has determined that volatile organic compounds emissions from synthetic fiber production facilities contribute to air pollution that may reasonably be anticipated to endanger public health or welfare.

In addition to the monitoring, recordkeeping and reporting requirements listed in the General Provisions (40 CFR part 60, subpart A), sources are required to submit the results of subsequent performance test results and any correction action taken, if they indicate that volatile organic compound (VOC) emissions exceed the standard, on a quarterly basis after the initial performance test. If no exceedances occur, sources must submit a report semiannually.

Burden Statement: In the previously approved ICR, the estimated number of respondents for this information collection was 31 with 85 responses per year. The annual industry reporting and recordkeeping burden for this collection of information was 2,696 hours. On the average, each respondent reported approximately 2.7 times per year and 32 hours were spent preparing each response. The total annual reporting and recordkeeping cost burden for this collection of information was $228,000. This included an annual cost of $3,000 associated with capital/startup costs and $225,000 associated with the annual operation and maintenance costs.

(20) NESHAP-MACT subpart AAAA: Federal Emission Guidelines for Existing Municipal Solid Waste Landfills (40 CFR part 63, subpart AAAA); EPA ICR Number 1893.03; OMB Control Number 2060-0430; expiration date February 28, 2003.

Affected Entities: Entities potentially affected by this action are owners or operators of existing municipal solid waste landfills that are located in any State for which a State plan has not been approved and become effective.

Abstract: The Agency has determined that the emissions from municipal solid waste landfills cause, or contribute significantly to air pollution that may reasonably be anticipated to endanger public health or welfare. The Administrator is charged under Section 111 of the Clean Air Act (CAA) to establish procedures for each State to submit a plan that would establish standards of performance for any existing source for any air pollutant. If the State has not developed such a plan, then the Administrator may require any person who owns or operates any emission source or is subject to any requirements of the CAA, to establish and maintain reports; make reports; install, use, and maintain monitoring equipment or methods; sample emissions; and provide any other information as required.

All owners and operators of existing municipal solid waste landfills must submit an initial design capacity report. If the design capacity of an existing landfill is equal to or greater than 2,500,000 megagrams in weight and equal to or greater than 2,500,000 cubic meters in volume, the owner or operator is required to determine the facility's nonmethane organic compound (NMOC) emission rate. Based on a three-tier calculation system, the owner or operator will either install a collection and control system or perform testing at the next tier level to recalculate the annual NMOC emission rate. If the NMOC emission rate is determined to be less than 50 megagrams per year (Mg/yr), using Tier 1, Tier 2, or Tier 3 calculations, no further calculations or testing is required for that year.

For landfills required to install collection and control systems, submission of a collection and control system design plan is required. After review of the design plan and installation of the collections and control system, and initial performance test and report for the system is required. There after, annual compliance reports are required. Owners or operators are required to keep continuous monitoring records of the parameters reported in the initial performance report and records of monthly monitoring of surface methane concentration.

Burden Statement: In the previously approved ICR, the estimated number of respondents for this information collection was 3,837 with 384 responses per year. The annual industry reporting and recordkeeping burden for this collection of information was 15,110 hours. On the average, each respondent reported approximately 0.10 times per year and 39 hours were spent preparing each response. The total annual reporting and recordkeeping cost burden for this collection of information was $890,000. This included an annual cost of $788,000 associated with capital/startup costs and $102,000 associated with the annual operation and maintenance costs.

(21) NSPS subpart JJJ: New Source Performance Standard for Petroleum Dry Cleaners (40 CFR part 60, subpart JJJ); EPA ICR Number 0997.07; and OMB Control Number 2060-0079; expiration date March 31, 2003.

Affected Entities: Entities potentially affected by this action are petroleum solvent dry cleaning dryers, washers, filters, stills and settling tanks located at petroleum dry cleaning plants.

Abstract: The Administrator has determined that volatile organic compounds (VOC) emissions from petroleum dry cleaners cause or contribute to air pollution that may reasonably be anticipated to endanger public health or welfare. Owners or operators of the affected facilities must conduct a performance test to demonstrate compliance with the applicable emission limitation and retain the results of that test for two years.

Burden Statement: In the previously approved ICR, the estimated number of respondents for this information collection was estimated to be 18 with 93 responses per year. The annual recordkeeping and reporting hour burden for this collection was estimated to be 1,483 hours. On the average, each respondent reported approximately 5.2 times per year and 16 hours were spent preparing each response. There are no capital/startup costs or operations and maintenance costs associated with continuous emission monitoring in the previous ICR; therefore, there are no capital, or operation and maintenance costs associated with this ICR.

(22) FPR subpart FFF: Federal Plan Recordkeeping and Reporting Requirements for Large Municipal Waste Combustors Constructed on or Before September 20, 1994 (40 CFR part 62, subpart FFF); EPA ICR Number 1847.03; OMB Control Number 2060-0390; expiration date March 31, 2003.

Affected Entities: Entities potentially affected by this action are Large Municipal Waste Combustors Constructed on or Before September 20, 1994 (40 CFR part 62, subpart FFF). Respondents are owners or operators of municipal waste combustors with a capacity to combust greater than 250 tons per day located in States that do not have EPA-approved plans.

Abstract: The Agency has determined that the emissions from large municipal waste combustors cause, or contribute significantly to air pollution that may reasonably be anticipated to endanger public health or welfare.

This information collection is required as a result of a Federal Plans developed at 40 CFR part 62, subpart FFF, to implement and enforce the emission guidelines (40 CFR part 60, subpart Cb) for large municipal waste combustors (MWCs) that were promulgated under the authority of Clean Air Act (CAA) Sections 111 and 129. Under CAA Section 129(b)(2), States were required to submit plans to the Administrator for approval by December 19, 1996, that implement and enforce the 40 CFR part 60, subpart Cb. Section 129(b)(3) requires the Administrator to promulgate a Federal Plan to implement and enforce the guidelines in those States that have not submitted an approvable plan to Administrator by December 19, 1997.

40 CFR part 60, subpart Cb requires all respondents to comply with the recordkeeping and reporting requirements at 40 CFR part 60, subpart Eb, Section 60.59b except for certain notifications regarding the siting plan, construction requirements, performance testing procedures and certifications. The primary recordkeeping and reporting requirements of subpart Eb include a materials separation plan; notification of public meeting; the retention of continuous emission monitoring data; records of exceedances; records carbon injection system data; the names of the plant operator, shift supervisors and control room operators; and performance test reports.

Burden Statement: In the previously approved ICR, the estimated number of respondents for this information collection was 56 with 112 responses per year. The annual industry reporting and recordkeeping burden for this collection of information was 58,915 hours. On the average, each respondent reported approximately two times per year and 508 hours were spent preparing each response. The total annual reporting and recordkeeping cost burden for this collection of information was $3,218,000 which is comprised entirely of annual operation and maintenance costs. There are no capital/startup costs associated with this ICR.

Dated: June 10, 2002.
Michael M. Stahl,
Director, Office of Compliance.

[FR Doc. 02-15613 Filed 6-19-02; 8:45 am]

BILLING CODE 6560-50-P